DEPARTMENT OF THE INTERIOR

National Park Service

Boston Harbor Islands Advisory Council; Notice of Meeting

Notice is hereby given in accordance with the Federal Advisory Committee Act (Pub. L. 92-463) that the Boston Harbor Islands Advisory Council will hold its annual meeting on Wednesday, March 3, 2004. The meeting will convene at 6 p.m. at the Children's Museum, 300 Congress Street, 5th Floor, Boston, MA.

The Advisory Council was appointed by the Director of National Park Service pursuant to Pub. L. 104-333. The 28 members represent business, educational/cultural, community and environmental entities; municipalities surrounding Boston Harbor; Boston Harbor advocates; and Native American interests. The purpose of the Council is to advise and make recommendations to the Boston Harbor Islands Partnership with respect to the development and implementation of a management plan and the operations of the Boston Harbor Islands national park area. The Agenda for this meeting is as follows:

1. Call to Order, Introductions of Advisory Council members present

2. Review and Approval of Minutes from the December 3, 2003 meeting

3. Presentation of video program presented at the LA Partnership Conference featuring—the Boston Harbor Islands!

4. Update on Outreach Program

5. Nomination for Advisory Council Seats

6. Election of Officers

7. Report from the Superintendent

8. Public Comment

9. Next Meeting

10. Adjourn

The meeting is open to the public. Further information concerning Council meetings may be obtained from the Superintendent, Boston Harbor Islands. Interested persons may make oral/written presentations to the Council or file written statements. Such requests should be made at least seven days prior to the meeting to: Superintendent, Boston Harbor Islands NRA, 408 Atlantic Avenue, Boston, MA 02110, telephone (617) 223-8667.

Dated: January 12, 2004.
George E. Price, Jr.,
Superintendent, Boston Harbor Islands NRA.

[FR Doc. 04-3147 Filed 2-12-04; 8:45 am]

BILLING CODE 4310-86-M